ELECTION ASSISTANCE COMMISSION

Sunshine Act Meeting

AGENCY: United States Election Assistance Commission.

ACTION: Notice of public meeting agenda.

DATE & TIME: Tuesday, November 23, 2004, 10 a.m.-12 noon.

PLACE: U.S. Election Assistance Commission, 1225 New York Ave., NW., Suite 1100, Washington, DC 20005. (Metro Stop: Metro Center)

AGENDA: The Commission will receive updates and reports on the following: Title II Requirements Payments; Court Case Update; Results from the HAVA College Poll Worker Program; Election Day Data Collection Update. The Commission will also receive presentations on EAC Election Day Activities and other items. Presentations will include: Election Day at the EAC Office; Election Day Reports from the Field; Election Day Summary; EAC Plan of Action for 2005.

PERSON TO CONTACT FOR INFORMATION: Bryan Whitener, Telephone: (202) 566-3100.

DeForest B. Soaries, Jr.
Chairman, U.S. Election Assistance Commission.

[FR Doc. 04-25339 Filed 11-9-04; 3:50 pm]

BILLING CODE 6820-YN-M